DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with September anniversary dates. In accordance with the Department's regulations, we are initiating those administrative reviews. The Department also received a request to revoke one countervailing duty order in part.

DATES: Effective Date: October 26, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with September anniversary dates. The Department also received a timely request to revoke in part the countervailing duty order on Corrosion-Resistant Carbon Steel Flat Products from the Republic of Korea, with respect to one exporter.

Notice of No Sales

Under 19 CFR 351.213(d)(3), the Department may rescind a review where there are no exports, sales, or entries of subject merchandise during the respective period of review listed below. If a producer or exporter named in this notice of initiation had no exports, sales, or entries during the period of review, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street & Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the period of review (“POR”). We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than September 30, 2010.

| Period to be reviewed
Antidumping Duty Proceedings
India: Certain Lined Paper Products, A-533-843 | 9/1/08-8/31/09
Abhinav Paper Products Pvt. Ltd.
American Scholar, Inc. and/or I-Scholar
Ampoules & Vials Mfg. Co., Ltd.
Bafna Exports
Blue Bird India Ltd.
Cello International Pvt. Ltd. (M/S Cello Paper Products)
Creative Divya
Corporate Stationery Pvt. Ltd.
D.D International
Exmart International Pvt. Ltd.
Fatechand Mahendrakumar
FFI International
Freight India Logistics Pvt. Ltd.
International Greetings Pvt. Ltd.
Lodha Offset Limited
Magic International Pvt Ltd
Marigold ExIm Pvt. Ltd.
Marisa International
Navneet Publications (India) Ltd.
Paperwise Inc.
Pioneer Stationery Pvt. Ltd.
Premier Exports
Riddhi Enterprises
SAB International
Sar Transport Systems
Seet Kamal International
Solitaire Logistics Pvt. Ltd. (Eternity Int'l Freight, forwarder on behalf of Solitaire Logistics Pvt. Ltd.)
Sonal Printers Pvt Ltd.
Super Impex
Swati Growth Funds Ltd.
V & M
Yash Laminates
Mexico: Light-Walled Rectangular Pipe and Tube,¹ A-201-836 | 1/30/08-7/31/09
Hylsa, S.A. de C.V.
Galvak, S.A. de C.V.
The People's Republic of China: Certain Lined Paper Products,² A-570-901 | 9/1/08-8/31/09
Watanabe Group (consisting of the following companies):
Watanabe Paper Products (Shanghai) Co., Ltd.
Watanabe Paper Products (Linqing) Co., Ltd.
Hotrock Stationery (Shenzhen) Co., Ltd.
Hwa Fuh Plastics Co., Ltd./Li Teng Plastics (Shenzhen) Co., Ltd.
Leo's Quality Products Co., Ltd./Denmax Plastic Stationery Factory
Shanghai Lian Li Paper Products Co., Ltd.
Certain New Pneumatic Off-the-Road Tires,³ A-570-912 | 2/20/08-8/31/09
Aeolus Tyre Co., Ltd.
Guizhou Tire Co., Ltd.
Hanghzou Zhongce Rubber Co., Ltd.
Hebei Starbright Tire Co., Ltd.
Innova Rubber Co., Ltd.
Jiangsu Feichi Co., Ltd.
KS Holding Limited/KS Resources Limited
Laizhou Xiongying Rubber Industry Co., Ltd.
Qingdao Free Trade Zone Full-World International Trading Co., Ltd.
Qingdao Taifa Group Co., Ltd.
Shandong Huitong Tyre Co., Ltd.
Tianjin Wanda Tyre Group
Tianjin United Tire & Rubber International Co., Ltd.
Triangle Tyre Co., Ltd.
Weihai Zhongwei Rubber Co., Ltd.
Freshwater Crawfish Tail Meat,⁴ A-570-848 | 9/1/08-8/31/09
China Kingdom (Beijing) Import & Export Co., Ltd.
Shanghai Ocean Flavor International Trading Co., Ltd.
Xiping Opeck Food Co., Ltd.
Xuzhou Jinjiang Foodstuffs Co., Ltd.
Yancheng Hi-King Agriculture Developing Co., Ltd.
Countervailing Duty Proceedings
Brazil: Certain Hot-Rolled Carbon Steel Flat Products, C-351-829 | 1/1/08-12/31/08
Usinas Siderurgicas de Minas Gerais—Usiminas
Companhia Siderurgica Paulista—Cosipa
The People's Republic of China: Certain New Pneumatic Off-the-Road Tires, C-570-913 | 12/17/07-12/31/08
Aeolus Tyre Co., Ltd.
Guizhou Tire Co., Ltd.
Hanghzou Zhongce Rubber Co., Ltd.
Hebei Starbright Tire Co., Ltd.
Jiangsu Feichi Co., Ltd.
Shandong Huitong Tyre Co., Ltd.
Tianjin United Tire & Rubber International Co., Ltd.
Tianjin Wanda Tyre Group
Triangle Tyre Co., Ltd.
¹ In the initiation notice that published on September 22, 2009 (74 FR 48224) the period of review (“POR”) for Light-Walled Rectangular Pipe and Tube from Mexico was incorrect. The POR listed above is the correct POR for this case. Separately listed above is the corrected spelling of two companies that were initiated in the September 22, 2009 notice.
² If one of the above named companies does not qualify for a separate rate, all other exporters of Certain Lined Paper Products from the People's Republic of China (“PRC”) who have not qualified for a separate rate are deemed to be covered by this review as part of the single PRC entity of which the named exporters are a part.
³ If one of the above named companies does not qualify for a separate rate, all other exporters of Certain New Pneumatic Off-the-Road Tires from the PRC who have not qualified for a separate rate are deemed to be covered by this review as part of the single PRC entity of which the named exporters are a part.
⁴ If one of the above named companies does not qualify for a separate rate, all other exporters of Freshwater Crawfish Tail Meat from the PRC who have not qualified for a separate rate are deemed to be covered by this review as part of the single PRC entity of which the named exporters are a part.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable for the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.103(d)).

These initiations and this notice are in accordance with section 751(a) of the Act, (19 USC 1675(a)) and 19 CFR 351.221(c)(1)(I).

Dated: October 20, 2009.
Gary Taverman,
Acting Deputy Assistant Secretary for Antidumping and Countervailing Duty Operations.

[FR Doc. E9-25752 Filed 10-23-09; 8:45 am]

BILLING CODE 3510-DS-P